CORPORATION FOR NATIONAL AND COMMUNITY SERVICE

Sunshine Act Meetings

The Board of Directors of the Corporation for National and Community Service (operating as AmeriCorps) gives notice of the following meeting:

TIME AND DATE: Wednesday, July 24, 2025, 5:30 p.m.-6:30 p.m. (CT).

PLACE: Dillard University, 2601 Gentilly Boulevard, New Orleans, LA 70122 and via Zoom.

After registering, you will receive a confirmation email containing information about joining the webinar.

• To register for the meeting, please use this link: https://americorps.zoomgov.com/webinar/register/WN_4U2anb84R5e82i5xR2TjnA.

STATUS: Open to the public.

MATTERS TO BE CONSIDERED:

I. Opening Remarks by the Chair

II. Welcome to Louisiana, Remarks by Local Volunteer

III. CEO Remark: Michael Smith

IV. Spotlight: Long Term Impact of Hurricane Katrina

V. Public Comment

VI. Chair's Closing Remarks and Adjournment

Members of the public who would like to comment on the business of the Board may do so in writing or virtually. Submit written comments to board@americorps.gov with the subject line: “Comments for July 24th AmeriCorps Board Meeting” no later than 5:00 p.m. (ET) July 22nd. Individuals who would like to comment during the meeting will be given instructions for signing up when they join the meeting. Comments are requested to be limited to two minutes.

AmeriCorps provides reasonable accommodation to individuals with disabilities, where needed.

CONTACT PERSON FOR MORE INFORMATION: Beatrix Evans by telephone: (202) 938-3663 or by email: bevans@americorps.gov.

Andrea Grill,
Acting General Counsel.

[FR Doc. 2024-15875 Filed 7-15-24; 4:15 pm]

BILLING CODE 6050-28-P